COMMITTEE FOR PURCHASE FROM PEOPLE WHO ARE BLIND OR SEVERELY DISABLED

Procurement List; Proposed Additions and Deletions

AGENCY: Committee for Purchase From People Who Are Blind or Severely Disabled.

ACTION: Proposed Additions to and Deletions From the Procurement List.

SUMMARY: The Committee is proposing to add products and a service to the Procurement List that will be furnished by nonprofit agencies employing persons who are blind or have other severe disabilities, and deletes products previously furnished by such agencies.

DATES: Comments Must Be Received On Or Before: 4/28/2014.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN: 4510-00-NIB-0049—Bag, Disposable, Polyethylene, Feminine Hygiene, Pink.

NSN: 4510-00-NIB-0050—Dispenser, Stainless Steel, Feminine Hygiene Disposal Bags.

NPA: Envision, Inc., Wichita, KS.

Contracting Activity: DEFENSE LOGISTICS AGENCY, DLA TROOP SUPPORT.

Coverage: C-List for 100% of the requirement of the Department of Defense, as aggregated by the Defense Logistics Agency Troop Support, Philadelphia, PA.

Service

Service Type: 3d Party Logistics Service.

Description of Service: Provide Contract Management Services and Warehousing and Supply Chain Management (Integration, Warehousing, Refurbishment) Services. 3d Party Logistics (3PL) Service will be provided, as directed by the Contracting Activity, in support of the requirements of Product Manager Force Sustainment System (PMFSS), Natick, MA that are not supported through existing DoD contracting actions or stock programs.

For the purpose of this proposed addition to the Procurement List, 3PL Service is defined as an AbilityOne Program associated nonprofit agency that will have sufficient capabilities in house, or with agreements in place, to provide all management, supervision, labor, materials, supplies and equipment (except as Government provided), to plan, schedule, coordinate and assure effective performance of tasks within an identified timeframe and at a cost no greater than a cost structure identified for similar tasks.

PMFSS provides the Army with centralized management, program oversight and direction for the development, production and deployment of more than 50 product lines of Soldier support systems and equipment. The equipment covered by this scope of work supports Soldiers individually or collectively in a tactical or operational environment and is broken down into five specific product lines. These product lines are further broken down into teams, Force Provider, Aerial Delivery, Field Services equipment, Field Feeding Equipment, and Shelter Systems which individually have requirements for provision of some or all of the following services.

Contract Management Services: The 3PL Service shall provide the Federal Government`s need for qualified contract specialists to support an expanding contract workload. The provider will be responsible for various functions to include providing best value procurement strategies for all items or services identified per PMFSS delivery order.

Warehousing and Supply Chain Management: The 3PL Service will provide three separate types of services needed to meet PMFSS requirements. The following describes the three separate services.

Integration: The 3PL Service will be responsible for combining Government Furnished Equipment (GFE) and new purchases into various configurations, packaging and kitting per PMFSS delivery order.

Warehousing: The 3PL Service will have storage space available not only to accomplish the Integration and refurbishment efforts but to hold equipment until such time as the PM needs to deploy the end items in support of a mission. The Facility will be easily accessible, secure, and environmental protective to ensure PMFSS requirements are met.

Refurbishment: The 3PL Service will have refurbishment capability to receive items after deployment and repair or replace defective or missing items to original configuration or specification.

Location: Product Manager, Force Sustainment System, Natick, MA.

NPA: ReadyOne Industries, Inc., El Paso, TX.

Contracting Activity: Dept of the Army, W6QK-ACC-APG Natick, Natick MA.

Deletions

The following products are proposed for deletion from the Procurement List:

Products

NSN: 7510-00-582-5398—Binder, Loose-leaf, Presentation, Letter, Blue, 3/8″.

NSN: 7510-00-582-5399—Binder, Loose-leaf, Presentation, Letter, Gray, 3/8″.

NSN: 7510-00-582-5400—Binder, Loose-leaf, Presentation, Letter, Tan, 3/8″.

NPA: Vision Corps, Lancaster, PA.

Contracting Activity: GSA/FSS OFC SUP CTR—PAPER PRODUCTS, NEW YORK, NY.

NPA: 7930-01-517-2727—Cleaner, Bathroom, Non-Acid, SKILCRAFT Savvy, 32 oz.

NPA: 7930-01-517-5916—Cleaner, Bathroom, Non-Acid, SKILCRAFT Savvy, 5 GL

NPA: 7930-01-517-5917—Cleaner, Bathroom, Non-Acid, SKILCRAFT Savvy, 55 GL.

NPA: Vision Corps, Lancaster, PA.

Contracting Activities: NAC, HINES, IL and GSA/FAS SOUTHWEST SUPPLY CENTER (QSDAC), FORT WORTH, TX.

NPA: 8540-01-350-6417—Napkin, Table, Paper.

NPA: 8540-01-351-2150—Napkin, Table, Paper.

NPA: UNKNOWN.

Contracting Activity: GSA/FAS SOUTHWEST SUPPLY CENTER (QSDAC), FORT WORTH, TX.

Barry S. Lineback,
Director, Business Operations.

[FR Doc. 2014-06920 Filed 3-27-14; 8:45 am]

BILLING CODE 6353-01-P